DEPARTMENT OF HEALTH AND HUMAN SERVICES

Food and Drug Administration

[Docket No. FDA-1998-P-0074]

Grated Parmesan Cheese Deviating From Identity Standard; Amendment of Temporary Marketing Permit

AGENCY: Food and Drug Administration, HHS.

ACTION: Notice.

SUMMARY: The Food and Drug Administration (FDA or we) is amending the temporary permit issued to Kraft Foods Inc. to market test a product designated as “100% Grated Parmesan Cheese” that deviates from the standards of identity for parmesan cheese and grated cheeses. Kraft Foods Inc.'s temporary permit is amended to identify Lactalis Heritage Dairy, Inc. (LHD) as the permit holder. This amendment will allow the permit holder to continue to test market the product and collect data on consumer acceptance.

FOR FURTHER INFORMATION CONTACT: Marjan Morravej, Office of Nutrition and Food Labeling (HFS-820), Center for Food Safety and Applied Nutrition, Food and Drug Administration, 5001 Campus Dr., College Park, MD 20740, 240-402-2371; or Alexandra Jurewitz, Office of Regulations and Policy (HFS-024), Center for Food Safety and Applied Nutrition, Food and Drug Administration, 5001 Campus Dr., College Park, MD 20740, 240-402-2378.

SUPPLEMENTARY INFORMATION: In the Federal Register of April 6, 1999 (64 FR 16743), we issued a notice announcing that we had issued a temporary permit to Kraft Foods Inc. (now a part of Kraft Heinz, 200 East Randolph St., Suite 7600, Chicago, IL 60601), to market test a product identified as “100% Grated Parmesan Cheese.” We issued the permit to facilitate market testing of a product that deviates from the requirements of the standard of identity for parmesan cheese (21 CFR 133.165) and grated cheeses (21 CFR 133.146) in that the product is formulated by using a different enzyme technology that fully cures the cheese in 6 months rather than 10 months.

In the Federal Register of December 29, 2000 (65 FR 83040), we issued a notice announcing that we were extending the temporary market permit issued to Kraft Foods Inc. The extension allows the applicant to continue to measure consumer acceptance of the product and assess the commercial feasibility of the product, in support of a petition to amend the standard of identity for parmesan cheese. The new expiration date of the permit will be either the effective date of a final rule amending the standard of identity for parmesan cheese that may result from the petition or 30 days after denial of the petition.

In 2011, Kraft Foods Inc. spun off its North American grocery business to a new company called Kraft Foods Group. In 2015, Kraft Foods Group and H.J. Heinz Company merged to become Kraft Heinz. In September 2020, Kraft Heinz entered into an agreement to sell its natural, grated, cultured, and specialty cheese businesses in the United States, including its Kraft parmesan cheese business, to B.S.A. S.A., the parent company of the Lactalis Group (Lactalis) and its subsidiary, LHD. As of November 29, 2021, LHD has assumed responsibility for production and sale of all parmesan cheese subject to the temporary permit.

Under our regulations at 21 CFR 130.17(f), we are modifying the temporary permit issued to Kraft Foods Inc. for “100% Grated Parmesan Cheese” to identify LHD, 540 West Madison St., Suite 300, Chicago, IL 60661, as the permit holder. All other conditions and terms of this permit remain the same.

Dated: April 29, 2022.
Lauren K. Roth,
Associate Commissioner for Policy.

[FR Doc. 2022-09750 Filed 5-5-22; 8:45 am]

BILLING CODE 4164-01-P